DEPARTMENT OF TRANSPORTATION

Federal Railroad Administration

[Docket Number FRA-2014-0013]

Petition for Waiver of Compliance

In accordance with Part 211 of Title 49 Code of Federal Regulations (CFR), this document provides the public notice that by a document dated June 6, 2013, Montana Rail Link (MRL) petitioned the Federal Railroad Administration (FRA) for a waiver of compliance from certain provisions of the Federal railroad safety regulations contained at 49 CFR Part 232, Brake System Safety Standards for Freight and Other Non-Passenger Trains and Equipment; End-of-Train Devices. FRA assigned the petition Docket Number FRA-2014-0013.

MRL seeks a waiver of compliance from 49 CFR 232.219, Double heading and helper service. This section states that “a Class III brake test pursuant to [Section] 232.211 shall be made to ensure that the brakes are operative from the automatic brake valve of the locomotive taking control of the train.” MRL petitions FRA for a modified Class 3 brake test for the use of the Helper-Link® equipped helper locomotive when pushing trains with one or more distributed power (DP) locomotives on the rear of the train. Most of MRL's traffic is bridge traffic for BNSF Railway (BNSF), which uses a waiver for Helper-Link® (Docket Number FRA-2006-26435). MRL seeks the use of identical conditions to BNSF's relief for its operation of Helper-Link®-equipped trains. MRL's evaluation of benefits includes increased safety due to the reduced need for train service employees to couple and uncouple from trains twice for each train assisted and operational benefits by reducing turnaround time for helper consists, improving velocity and increasing fuel savings.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 17, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 27, 2014.
Robert C. Lauby,
Associate Administrator for Railroad Safety, Chief Safety Officer.

[FR Doc. 2014-12623 Filed 5-30-14; 8:45 am]

BILLING CODE 4910-06-P